DEPARTMENT OF AGRICULTURE

Submission for OMB Review; Comment Request

January 13, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: ARS Animal Health National Program Assessment Survey Form.

OMB Control Number: 0518-NEW.

Summary of Collection: The Agricultural Research Service (ARS) is charged with extending the Nation's scientific knowledge with research projects in agriculture, human nutrition, food safety, natural resources, the environment, and other topic affecting the Nation. ARS conducts national program assessments every five years. The proposed assessment instrument will enable ARS to ascertain the level of customer and stakeholder satisfaction with the quality, relevance, and performance of its animal health research program. The input received from customers is critical to assess the performance and impact of ARS' research program.

Need and Use of the Information: The purpose of the survey/questionnaire is to assess the impact that the research program has had in the 2000-2004 national program cycle. The information will be used to assess the performance and impact of the animal health research program and provide input for future modifications as ARS prepares for the next 5-year cycle of research.

Description of Respondents: Federal Government; State, Local or Tribal Government.

Number of Respondents: 460.

Frequency of Responses: Reporting: Other (1 time survey).

Total Burden Hours: 80.

Ruth Brown,
Departmental Information Collection Clearance Officer.

[FR Doc. 05-1079 Filed 1-19-05; 8:45 am]

BILLING CODE 3410-03-M